ENVIRONMENTAL PROTECTION AGENCY

[ER-FRL-6644-9]

Environmental Impact Statements; Notice of Availability

Responsible Agency: Office of Federal Activities, General Information (202) 564-7167 or http://www.epa.gov/compliance/nepa/.

Weekly receipt of Environmental Impact Statements

Filed October 20, 2003 Through October 24, 2003

Pursuant to 40 CFR 1506.9.

EIS No. 030485, Final EIS, AFS, CA, Combined Array for Research in Millimeter-wave Astronomy (CARMA) Project, Construction, Reconstruction and Operation of 23 Antennas at the Juniper Flat Site, Special-Use-Permit Issuance, Inyo Mountain, Inyo National Forest, Inyo County, CA, Wait Period Ends: December 1, 2003, Contact: Jeffery E. Bailey (760) 873-2400.

EIS No. 030486, Draft EIS, AFS, CA, Larson Reforestation and Fuel Reduction Project, Implementation, Stanislaus National Forest, Groveland Ranger District, Mariposa and Tuolumne Counties, CA, Comment Period Ends: December 15, 2003, Contact: Steve Marsh (209) 962-7825. This document is available on the Internet at: http://www.r5.fs.fed.us/stanislaus.

EIS No. 030487, Draft EIS, AFS, WY, Lost Cabin Mine Project, Improvement of Historic Mining Road (Way 4170H) to Allow Motorized Access to the Lost Mine for Mineral Exploration), Plan-of-Operation, Medicine-Bow Routt National Forests and Thunder Basin National Grassland, Carbon County, WY, Comment Period Ends: December 15, 2003, Contact: Melissa Martin (307) 745-2371. This document is available on the Internet at: http://www.fs.fed.us\mrnf.

EIS No. 030488, Draft EIS, AFS, WY, Wyoming Range Allotment Complex, To Determine Whether or not to Allow Domestic Sheep Grazing, Bridger-Teton National Forest, Big Piney, Greys River and Jackson Ranger Districts, Sublette, Lincoln and Teton Counties, WY, Comment Period Ends: December 29, 2003, Contact: Greg Clark (307) 276-3375.

EIS No. 030489, Draft EIS, AFS, OR, Baked Apple Fire Salvage Project, Salvaging Fire Killed Trees in the Matrix Portion of the 2002 Apple Fire, Umpqua National Forest, Umpqua Ranger District, Douglas County, OR, Comment Period Ends: December 15, 2003, Contact: Debbie Anderson (541) 496-3532. This document is available on the Internet at: http://www.fs.fed.us/r6/umpqua.

EIS No. 030490, Final EIS, BLM, CA, Santa Rosa and San Jacinto Mountains National Monument Management Plan, Implementation, Public Lands Management, Riverside County, CA, Wait Period Ends: December 1, 2003, Contact: Melissa Briston (760) 251-4817. This document is available on the Internet at: http://www.ca.blm.gov/palmsprings.

EIS No. 030491, Final EIS, AFS, AL, Forest Health and Restoration Project, Proposal to Determine the Desired Future Conditions of all Existing Loblolly Pine Stands, National Forests in Alabama, Bankhead National Forest, Winston, Lawrence and Franklin Counties, AL, Wait Period Ends: December 1, 2003, Contact: John W. Creed (205) 489-5111.

EIS No. 030492, Final EIS, AFS, WI, Sunken Moose Project, Proposal to Restore and/or Maintain the Red and White Pine Communities, Washurn Ranger District, Chequamegon-Nicolet Forest, Bayfield County, WI, Wait Period Ends: December 1, 2003, Contact: Ray Kiewit (715) 373-2667.

EIS No. 030493, Final EIS, FTA, TX, Northwest Corridor Light Rail Transit (LRT) Line to Farmers Branch and Carrollton, Construction and Operation, NPDES and U.S. Army COE Section 404 Permits Issuance, Dallas Area Rapid Transit, Dallas and Denton Counties, TX, Wait Period Ends: December 1, 2003, Contact: John Sweek (817) 975-0550.

EIS No. 030494, Final EIS, FTA, TX, Southeast Corridor Light Rail Transit Project, Construction and Operation, Funding, NPDES Permit and U.S. Army COE Section 404 Permit Issuance and, Mobility 2025 Plan Update, Dallas Area Rapid Transit (DART), City of Dallas, Dallas County, TX, Wait Period Ends: December 1, 2003, Contact: John Sweek (817) 975-0550.

EIS No. 030495, Final EIS, NOA, Dolphin and Wahoo Fishery Management Plan, Establishing Fishery Management Units, Stock Status Determination and Harvesting Restrictions, Initial Regulatory Flexibility Analysis, South Atlantic, Caribbean, and Gulf of Mexico, Wait Period Ends: December 1, 2003, Contact: Roy E. Crabtree (727) 570-5301.

EIS No. 030496, Final EIS, AFS, ID, Twin Creek Timber Sale Project, Proposal to Cut and Remove Lodgepole Pine Sawtimber, Road Construction/Reconstruction, Montpelier Ranger District, Caribou National Forest, U.S. Corps of Engineers Permit, Bear Lake County, ID, Wait Period Ends: December 1, 2003, Contact: Jerry B. Reese (208) 624-3151.

Amended Notices

EIS No. 030453, Draft EIS, BLM, CA, Desert Southwest Transmission Line Project, New Substation/Switching Station, Construction, Operation and Maintenance, Right-of-Way Grant and US Army COE Section 10 and 404 Permits Issuance, North Palm Springs and Blythe, CA, Comment Period Ends: January 8, 2004, Contact: John Kalish (760) 251-4849. Revision of FR Notice Published on 10/10/2003: Correction to the Internet Address should be: http://www.ca.blm.gov/palmsprings. Also, CEQ Comment Period Ending 11/17/2003 has been Extended to 01/08/2004.

Dated: October 28, 2003.
Joseph C. Montgomery,
Director, NEPA Compliance Division, Office of Federal Activities.

[FR Doc. 03-27474 Filed 10-30-03; 8:45 am]

BILLING CODE 6560-50-P